DEPARTMENT OF ENERGY

Federal Energy Regulatory Commission

Notice of Effectiveness of Exempt Wholesale Generator and Foreign Utility Company Status

| Docket Nos.
Cutlass Solar LLC | EG22-109-000
SJRR Power LLC | EG22-110-000
Victoria Port Power II | EG22-111-000
Yapkank Fuel Cell Park, LLC | EG22-112-000
Vansycle II Wind, LLC | EG22-113-000
Great Prairie Wind, LLC | EG22-114-000
Tres Bahias Solar Power, LLC | EG22-115-000
Ocean State BTM, LLC | EG22-116-000
Rumford ESS, LLC | EG22-117-000
Madison BTM, LLC | EG22-118-000
South Portland ESS, LLC | EG22-119-000
Sandford ESS, LLC | EG22-120-000
Madison ESS, LLC | EG22-121-000
AE-ESS NWS 1, LLC | EG22-122-000
Shakes Solar, LLC | EG22-123-000
Great Pathfinder Wind, LLC | EG22-124-000
Jackpot Holdings LLC | EG22-125-000
Fence Post Solar Project, LLC | EG22-126-000
Ganado Solar, LLC | EG22-127-000
Stampede Solar Project, LLC | EG22-128-000
Sierra Energy Storage, LLC | EG22-129-000
Madison Fields Solar Project, LLC | EG22-130-000
Marion County Solar Project, LLC | EG22-131-000
Tres City Power LLC | EG22-132-000
Wolf Tank Storage LLC | EG22-133-000
Tres Port Power LLC | EG22-134-000
BillerudKorsnäs Sweden AB | FC22-2-000

Take notice that during the month of July 2022, the status of the above-captioned entities as Exempt Wholesale Generators or Foreign Utility Companies became effective by operation of the Commission's regulations. 18 CFR 366.7(a) (2021).

Dated: August 15, 2022.
Kimberly D. Bose,
Secretary.

[FR Doc. 2022-17874 Filed 8-18-22; 8:45 am]

BILLING CODE 6717-01-P